DEPARTMENT OF TRANSPORTATION

National Highway Traffic Safety Administration

[Docket No. NHTSA-2019-0050; Notice 1]

Automobili Lamborghini, Receipt of Petition for Decision of Inconsequential Noncompliance

AGENCY: National Highway Traffic Safety Administration (NHTSA), Department of Transportation (DOT).

ACTION: Receipt of petition.

SUMMARY: Automobili Lamborghini has determined that certain 2019-2020 Lamborghini Urus motor vehicles do not fully comply with Federal Motor Vehicle Safety Standard (FMVSS) No. 110, Tire Selection and Rims and Motor Home/Recreation Vehicle Trailer Load Carrying Capacity Information for Motor Vehicles with a GVWR of 4,536 kilograms (10,000 pounds) or Less. Automobili Lamborghini filed a noncompliance report dated April 10, 2019, and also petitioned NHTSA on May 9, 2019, for a decision that the subject noncompliance is inconsequential as it relates to motor vehicle safety. This document announces receipt of Automobili Lamborghini's petition.

DATES: The closing date for comments on the petition is November 25, 2019.

ADDRESSES: Interested persons are invited to submit written data, views, and arguments on this petition. Comments must refer to the docket number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000, (65 FR 19477-78).

SUPPLEMENTARY INFORMATION:

I. Overview: Automobili Lamborghini has determined that certain 2019-2020 Lamborghini Urus motor vehicles do not fully comply with paragraph S4.4.2(a) and (c) of FMVSS No. 110, Tire Selection and Rims and Motor Home/Recreation Vehicle Trailer Load Carrying Capacity Information for Motor Vehicles with a GVWR of 4,536 kilograms (10,000 pounds) or Less (49 CFR 571.110). Automobili Lamborghini filed a noncompliance report dated April 10, 2019, pursuant to 49 CFR part 573, Defect and Noncompliance Responsibility and Reports. Automobili Lamborghini also petitioned NHTSA on May 9, 2019, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of Automobili Lamborghini's petition is published under 49 U.S.C. 30118 and 30120 and does not represent any agency decision or other exercises of judgment concerning the merits of the petition.

II. Vehicles Involved: As originally filed, Automobili Lamborghini's petition stated that the petition applied to MY 2018-2019 Lamborghini Urus motor vehicles, however, the company has since clarified that the correct MYs are MY 2019-2020.

Accordingly, approximately 595 MY 2019-2020 Lamborghini Urus motor vehicles, manufactured between August 30, 2018, and April 10, 2019, are potentially involved.

III. Noncompliance: Automobili Lamborghini explains that the noncompliance is that the rims equipped on the subject vehicles do not fully comply with paragraph S4.4.2(a) and (c) of FMVSS No. 110. Specifically, the rims on the subject vehicles do not contain the required designation symbol or DOT certification markings.

IV. Rule Requirements: Paragraph S4.4.2(a) of FMVSS No. 110 includes the requirements relevant to this petition. Each rim or, at the option of the manufacturer in the case of a single-piece wheel, each wheel disc shall be marked with a designation that indicates the source of the rim's published nominal dimensions and the symbol DOT, constituting a certification by the manufacturer of the rim that the rim complies with all applicable FMVSS.

V. Summary of Lamborghini's Petition: Automobili Lamborghini described the subject noncompliance and stated its belief that the noncompliance is inconsequential as it relates to motor vehicle safety.

In support of its petition, Automobili Lamborghini submitted the following reasoning:

1. The “DOT” marking signifies that the manufacturer of the rim has certified that the rim complies with all applicable FMVSSs. So, because “DOT” is a “certification,” it is a violation of 49 U.S.C. 30115 (“Certification”), which does not require notification and remedy (see 74 FR 69377).

2. The designation symbol under S4.4.2(a) is not considered a “certification” and indicates the source of the rim's published nominal dimensions. Thus, because a noncompliance under (a) is not a certification issue, which would implicate 49 U.S.C. 30115, Automobili Lamborghini has submitted a report pursuant to 49 CFR part 573.

3. Automobili Lamborghini states that the subject rims contain all information required within FMVSS § 571.110 and that the omission of the correct designation symbol “E,” required under S4.4.2(a), and the certification symbol “DOT,” required under S4.4.2(c), will not prevent tires and rims from properly matching in the case of worn-out tires.

4. Automobili Lamborghini says that the owner's manual and the tire placard, both contain the correct and complete size of rims installed on the subject vehicles. Automobili Lamborghini stated their belief that this matter will not affect the ability to clearly identify the subject rims in case of a parts recall and that this matter does not have any effect on motor vehicle safety.

5. Automobili Lamborghini says that they are unaware of any accidents, injuries or customer complaints related to the lack of these markings. The missing markings do not affect the performance of the wheels or the tire and wheel assemblies.

Automobili Lamborghini concluded by expressing the belief that the subject noncompliance is inconsequential as it relates to motor vehicle safety, and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that Automobili Lamborghini no longer controlled at the time it determined that the noncompliance existed. However, any decision on this petition does not relieve vehicle distributors and dealers of the prohibitions on the sale, offer for sale, or introduction or delivery for introduction into interstate commerce of the noncompliant vehicles under their control after Automobili Lamborghini notified them that the subject noncompliance existed.

Authority: (49 U.S.C. 30118, 30120: delegations of authority at 49 CFR 1.95 and 501.8)

Otto G. Matheke III,
Director, Office of Vehicle Safety Compliance.

[FR Doc. 2019-23189 Filed 10-23-19; 8:45 am]

BILLING CODE 4910-59-P